DEPARTMENT OF HOMELAND SECURITY

Coast Guard

[Docket No. USCG-2011-1084]

Guidance on Domestic Implementation of International Standards for Oceangoing Barges Carrying Noxious Liquid Substances

AGENCY: Coast Guard, DHS.

ACTION: Notice of public meeting; request for comments.

SUMMARY: The Coast Guard announces a public meeting to receive comments on new policy under consideration that would provide a domestic equivalency for international standards with respect to U.S. flagged oceangoing barges carrying noxious liquid substances (NLS).

DATES: A public meeting will be held on Thursday, December 1, 2011 from 2 p.m. to 4 p.m. to provide an opportunity for oral comments. Written comments and related material may be submitted to Coast Guard personnel specified at that meeting. Written comments may also be submitted in response to this notice. The comment period for this notice will close on December 30, 2011. All written comments and related material submitted before or after the meeting must either be submitted to our online docket via http://www.regulations.gov on or before December 30, 2011 or reach the Docket Management Facility by that date.

ADDRESSES: The public meeting will be held at the Ernest N. Morial Convention Center, Room 205, 900 Convention Center Boulevard, New Orleans, LA 70130, telephone (504) 582-3000.

You may submit written comments identified by docket number USCG-2011-1084 before or after the meeting using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. Our online docket for this notice is available on the Internet at http://www.regulations.gov under docket number USCG-2011-1084.

FOR FURTHER INFORMATION CONTACT: If you have questions concerning the meeting or the new policy under consideration, please call or email LT Sean Peterson, Commandant (CG-5223), Coast Guard; telephone (202) 372-1403, email Sean.M.Peterson@uscg.mil. If you have questions on viewing or submitting material to the docket, call Ms. Renee V. Wright, Program Manager, Docket Operations, telephone (202) 366-9826.

SUPPLEMENTARY INFORMATION:

Background and Purpose

The Coast Guard is considering new policy that would align Coast Guard guidance with the International Code for the Construction and Equipment of Ships Carrying Dangerous Chemicals in Bulk (IBC Code) as it may relate to oceangoing barges carrying NLS.

The new policy under consideration by the Coast Guard would provide affected parties with an equivalent means of compliance with the IBC Code. In crafting this guidance, the Coast Guard wishes to take into account public concerns and input. In that regard, this notice specifically requests information and public comments relating to the following topics:

1. Regulation 11.3.1 of the IBC Code requiring installation of fixed deck foam systems for all vessels carrying cargoes with a flashpoint less than 60 degrees (Celsius).

2. Secondary venting requirements according to Regulation 8.3 of the IBC Code.

3. Any additional comments or concerns regarding the implementation of the International Convention for the Prevention of Pollution from Ships (MARPOL) Annex II for oceangoing barges carrying NLS.

The Coast Guard believes that a public meeting would also benefit the impacted community by providing an additional forum to raise relevant issues. This will further enable the Coast Guard to craft policy that takes into account public concerns.

You may view the written comments and supporting documents (if any) in the online docket by going to http://www.regulations.gov. Once there, select the Advanced Docket Search option on the right side of the screen, insert USCG-2011-1084 in the Docket ID box, press Enter, and then click on the item in the Docket ID column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

We encourage you to participate by submitting comments either orally at the meeting or in writing. If you bring written comments to the meeting, you may submit them to Coast Guard personnel specified at the meeting to receive written comments. These comments will be submitted to our online public docket. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Services for Individuals With Disabilities

For information on facilities or services for individuals with disabilities or to request special assistance at the public meeting, contact Lt. Sean Peterson at the telephone number or email address indicated under the FOR FURTHER INFORMATION CONTACT section of this notice.

Public Meeting

The Coast Guard will hold a public meeting regarding new policy under consideration that would provide a domestic equivalency for international standards with respect to U.S. flagged oceangoing barges carrying NLS on Thursday, December 1, 2011 from 2 p.m. to 4 p.m., at the Ernest N. Morial Convention Center, Room 205, 900 Convention Center Boulevard, New Orleans, LA 70130, telephone (504) 582-3000.

We plan to record this meeting using an audio-digital recorder and then make that audio recording available through a link in our online docket. We will also provide a written summary of the meeting and comments and will place that summary in the docket.

Dated: November 25, 2011.
F.J. Sturm,
Deputy, Director of Commercial Regulations and Standards, U.S. Coast Guard.

[FR Doc. 2011-30864 Filed 11-25-11; 4:15 pm]

BILLING CODE 9110-04-P